DEPARTMENT OF AGRICULTURE

Commodity Credit Corporation

Information Collection; Collection of Market Prices

AGENCY: Commodity Credit Corporation (CCC), USDA.

ACTION: Notice; request for public comment.

SUMMARY: In accordance with the Paperwork Reduction Act of 1995 (PRA), the Commodity Credit Corporation (CCC) is seeking comments from all interested individuals and organizations on a new information collection needed by the CCC to establish market values for wheat, feed grains, soybeans, minor oilseeds, and pulses.

DATES: Comments on this notice must be received on or before August 15, 2003, to be assured consideration. Comments received after that date will be considered to the extent practicable.

ADDRESSES: Comments concerning this notice should be addressed to Shirlene Engle, USDA, Farm Service Agency, Warehouse and Inventory Division, Program Development Branch, STOP 0553, 1400 Independence Avenue, SW., Washington, DC 20250-0553; e-mail: Shirlene.Engle@wdc.usda.gov. Comments may be faxed to (202) 690-3123.

FURTHER INFORMATION CONTACT: Shirlene Engle, Program Specialist, Storage Contract Branch, (202) 720-7397.

SUPPLEMENTARY INFORMATION: Title: Collection of Market Prices.

OMB Control Number: 0560-New.

Type of Request: New information collection.

Abstract: The information collected will allow CCC merchandisers to collect electronically, or by telephone, daily sales and purchase prices from grain terminals to establish Posted County Prices (PCP's) for the Marketing Assistance Loan Program (MAL), which is operated by the Farm Service Agency (FSA) under the Farm Security and Rural Investment Act of 2002. CCC's authority to collect this information is the Commodity Credit Corporation Charter Act (15 U.S.C. 714, et seq.). Posted County Prices provide an estimate of market prices at the county level and are the prices at which program participants may redeem grain pledged as collateral for marketing assistance loans. The information collected is also used in constructing bid acceptance criteria for the purchase and sale of CCC-owned bulk grain such as wheat, corn, rice, soybean, and soybean meal for export donation programs.

To the extent this information collection is associated with the MAL, the collection is exempt from the requirements of the PRA by section 1601 of the 2002 Act (7 U.S.C. 7991). However, to the extent the information collection is associated with other uses, it is not exempt and, because the collection burden for those other uses is the same as for MAL uses, the request for approval covers the entire collection.

Estimate of Burden: Public reporting burden for this information collection is estimated to average .25 hours per response.

Respondents: Warehouse operators.

Estimated Number of Respondents: 30.

Estimated Number of Responses per Respondent: 240.

Estimated Total Annual Burden on Respondents: 1,800 hours.

Comment is invited on: (1) Whether the collection of information is necessary for the proper performance of the functions of the agency, including whether the information will have practical utility; (2) the accuracy of CCC's estimate of burden including the validity of the methodology and assumptions used; (3) enhancing the quality, utility, and clarity of the information collected; and (4) minimizing the burden of the collection of the information on those who are to respond, including through the use of appropriate automated, electronic, mechanical, or other technological collection techniques or other forms of information technology.

All comments received in response to this notice, including names and addresses when provided, will be a matter of public record. Comments will be summarized and included in the submission for Office of Management and Budget approval.

Signed in Washington, DC, on June 6, 2003.
James R. Little,
Executive Vice President, Commodity Credit Corporation.

[FR Doc. 03-15075 Filed 6-13-03; 8:45 am]

BILLING CODE 3410-05-P